INTERNATIONAL TRADE COMMISSION

[Investigation No. 731-TA-539-C (Second Review)]

Uranium From Russia

AGENCY: United States International Trade Commission.

ACTION: Revised schedule for the subject five-year review investigation.

DATES: Effective Date: April 3, 2006.

FOR FURTHER INFORMATION CONTACT: Cynthia Trainor (202-205-3354), Office of Investigations, U.S. International Trade Commission, 500 E Street, SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its Internet server (http://www.usitc.gov). The public record for this five-year review investigation may be viewed on the Commission's electronic docket (EDIS) at http://edis.usitc.gov.

SUPPLEMENTARY INFORMATION: On January 11, 2006, the Commission established a schedule for the conduct of the subject five-year review investigation (71 FR 3326, January 20, 2006). The Commission hereby gives notice that it is revising its schedule for the subject review investigation.

The Commission's schedule for the five-year review investigation is revised as follows: The hearing will be held at the U.S. International Trade Commission Building at 9:30 a.m. on May 25, 2006; and the deadline for filing posthearing briefs is June 5, 2006. All other dates cited in the Commission's original scheduling notice cited above remain unchanged.

For further information concerning this five-year review investigation see the Commission's notice cited above and the Commission's Rules of Practice and Procedure, part 201, subparts A through E (19 CFR part 201), and part 207, subparts A and C (19 CFR part 207).

Authority: This five-year review investigation is being conducted under authority of title VII of the Tariff Act of 1930; this notice is published pursuant to section 207.21 of the Commission's rules.

By order of the Commission.
Issued: April 3, 2006.
Marilyn R. Abbott,
Secretary to the Commission.

[FR Doc. E6-5100 Filed 4-6-06; 8:45 am]

BILLING CODE 7020-02-P